DEPARTMENT OF THE INTERIOR

Bureau of Reclamation

Wellton-Mohawk Title Transfer

AGENCY: Bureau of Reclamation, Interior.

ACTION: Notice of intent to prepare an environmental impact statement for the proposed Wellton-Mohawk title transfer.

SUMMARY: Pursuant to the National Environmental Policy Act (NEPA) of 1969, as amended, the Bureau of Reclamation (Reclamation) intends to prepare an environmental impact statement (EIS) to evaluate the potential effects of the proposed title transfer of property in Yuma County, Arizona, to the Wellton-Mohawk Irrigation and Drainage District (District). This information will be used in the decision-making process pursuant to the Wellton-Mohawk Transfer Act of June 20, 2000 (Pub. L. 106-221), whereby the Secretary of Interior was authorized to convey certain works, facilities, and lands of the Gila Project (61 Stat. 628), including the conveyance of designated acquired, public, and withdrawn lands within or adjacent to the Gila Project, to the District. The District shall be a cooperating agency with Reclamation in the NEPA review of this proposed project. At present it is not clear whether the scope of the action will require the preparation of an EIS or an environmental assessment (EA). However, to ensure a timely and appropriate level of NEPA compliance and to limit future delays in completing the environmental analysis for the proposed title transfer, Reclamation is at this time proceeding as if the project will require the preparation of an EIS. Reclamation will reevaluate the need for an EIS after receiving public comment on the proposed action and initiating the environmental analysis for the title transfer. Reclamation will publish a notice of cancellation if, as the result of additional information and analysis, a decision is made to prepare an EA rather than an EIS.

DATES: Public meetings are planned for the purpose of defining the scope of the EIS, identifying reasonably foreseeable alternatives to the proposed action, and noting specific issues that need to be addressed. Meeting dates, times, and locations are as follows:

• Wednesday, August 15, 7 p.m. at Antelope Union High School, 9168 South Avenue 36E, Wellton, Arizona; and

• Thursday, August 16, 7 p.m. at Bureau of Reclamation, Yuma Area Office, 7301 Calle Agua Salada, Yuma, Arizona.

Persons with disabilities or language barriers are requested to contact Rhoda Thomas, telephone (602) 258-0234, Fax. (602) 258-2352, to arrange specific accommodations for either of these meetings.

Written comments will be received by Reclamation regarding the proposed project and the scope of the environmental impacts analysis to be conducted as part of the NEPA review process. The comment period shall extend for 30 days from the date of publication of this notice through August 30, 2001. Comments may be sent to Mr. Richard Strahan at the address provided below.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION: To request additional information about the proposed project and public meetings and to provide written comments on the scope of the EIS, contact Mr. Richard Strahan, Project Manager, Yuma Area Office, U.S. Bureau of Reclamation, 7301 Calle Agua Salada, Yuma, AZ 85364-9763; telephone (928) 343-8277; email rstrahan@lc.usbr.gov.

SUPPLEMENTARY INFORMATION: The United States holds title to works and facilities in the Wellton-Mohawk Division of the Gila Project, which was authorized by the Gila Project Reauthorization Act of July 30, 1947 (61 Stat. 628), and lands within and adjacent to the District. The Wellton-Mohawk Transfer Act (Public Law 106-221) of June 20, 2000, authorized the Secretary of Interior to transfer title to these works, facilities, and lands.

Pursuant to a Memorandum of Agreement (No. 8-AA-34-WA014, dated July 10, 1998), the District and Reclamation shall jointly identify lands within and adjacent to the District to be purchased or exchanged or otherwise transferred by and between the District and Reclamation. Acquired Lands, Public Lands, and Withdrawn Lands shall be appraised in accordance with practices approved by the Secretary to ensure that the United States receives fair market value for the lands purchased or exchanged.

The District, whose jurisdiction covers approximately 63,000 acres of arable land along the Gila River in an area east of Yuma, Arizona, receives irrigation water through canals and related works and facilities constructed by Reclamation as part of the Wellton-Mohawk Division of the Federal Gila Project. Over the years, the District has repaid the costs of their construction, and it operates and maintains the works and facilities and administers the distribution of water and collection of revenues from water users. Reclamation, as the owner of the Federal facilities and associated rights-of-way, monitors the use and maintenance of the facilities and administers the legal aspects of the landownership.

Jointly, Reclamation and the District will evaluate the environmental aspects associated with the proposed transfer of title to the works and facilities and to certain lands currently vested in the United States. The works and facilities include canals, canal structures, pumping plants, pumps, motors, transformers, laterals, drains, roads, buildings, and works, including Gila River flood protection and control works rights-of-way and easements for facilities and other interests in lands. The District has also expressed an interest in purchasing, at fair market value, various tracts of Reclamation land associated with the Wellton-Mohawk Division of the Gila Project that were not included in the construction cost repayment schedule.

Responsibility for ownership of Reclamation works and facilities and associated land would be assumed by the District as part of its established irrigation, drainage, and flood control operation program and in the interest of maintaining a viable agricultural economy in Yuma County.

The proposed title transfer would eliminate duplication of administrative costs and divided responsibilities that exist because of Federal ownership of works and facilities that are operated and maintained by the District. These include Reclamation's oversight of the District's operation and maintenance of facilities as well as distribution and use of irrigation water, and the reporting required of the District by Reclamation. The proposed change in title would not change the purpose, operation, or use of the facilities and works, nor actions and relationships outside of District operations, such as allocation of Colorado River water, conveyance of agricultural return flows from the District, Federal programs related to Colorado River water quality, and power contracts involving the District.

Preferred Alternative

The preferred alternative would involve the proposed transfer to the District of Reclamation-owned irrigation and drainage water conveyance and distribution works and facilities beginning at the Gila Gravity Main Canal, the Gila River flood channel and protective dikes, and the Federal rights-of-way and easements on which these facilities are located. In addition, the preferred alternative includes the District's purchase, at fair market value, of other lands in the District that Reclamation has withdrawn from the public domain for project purposes or has acquired in connection with the Colorado River Salinity Control Project, and lands that are still in the public domain which would complement the operational integrity of the Wellton-Mohawk Division.

Anyone interested in more information concerning the proposed title transfer should contact Mr. Strahan as provided above.

Dated: July 16, 2001.
J.F. Williams,
Deputy Area Manager, Yuma Area Office.

[FR Doc. 01-18977 Filed 7-30-01; 8:45 am]

BILLING CODE 4310-MN-P